DEPARTMENT OF TRANSPORTATION

Federal Aviation Administration

14 CFR Part 39

[Docket No. FAA-2006-23716; Directorate Identifier 2006-NM-008-AD; Amendment 39-14466; AD 2006-03-02]

RIN 2120-AA64

Airworthiness Directives; Dassault Model Falcon 2000 and Falcon 2000EX Airplanes

AGENCY: Federal Aviation Administration (FAA), Department of Transportation (DOT).

ACTION: Final rule; request for comments.

SUMMARY: The FAA is adopting a new airworthiness directive (AD) for certain Dassault Model Falcon 2000 and Falcon 2000EX airplanes. For all airplanes, this AD requires, among other actions, doing an inspection for damage of the feeder cables, and corrective actions if necessary; and installing a protective plate on the feeder cables. For certain airplanes, this AD also requires re-routing the wiring on the cockpit protector; drilling holes in the cockpit protector; and clamping the feeder cables; as applicable. This AD results from a drawing review and further associated inspections that highlighted a potential chafing risk between the third crew member's oxygen mask box and feeder cables routed in the area. We are issuing this AD to prevent chafing between the subject oxygen mask box and the adjacent feeder cables, which could generate smoke or fire in the cockpit that could be fanned by oxygen leakage from the oxygen mask box.

DATES: This AD becomes effective February 16, 2006.

The Director of the Federal Register approved the incorporation by reference of certain publications listed in the AD as of February 16, 2006.

We must receive comments on this AD by April 3, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Dassault Falcon Jet, P.O. Box 2000, South Hackensack, New Jersey 07606, for service information identified in this AD.

FOR FURTHER INFORMATION CONTACT: Tom Rodriguez, Aerospace Engineer, International Branch, ANM-116, Transport Airplane Directorate, FAA, 1601 Lind Avenue, SW., Renton, Washington 98055-4056; telephone (425) 227-1137; fax (425) 227-1149.

SUPPLEMENTARY INFORMATION:

Discussion

The European Aviation Safety Agency (EASA) notified us that an unsafe condition may exist on certain Dassault Model Falcon 2000 and Falcon 2000EX airplanes. The EASA advises that a drawing review and further associated inspections have highlighted a potential chafing risk between the third crew member's oxygen mask box, which is optional, installed in the cockpit ceiling, and feeder cables routed in the area. This condition, if not corrected, could generate smoke or fire in the cockpit that could be fanned by oxygen leakage from the oxygen mask box.

Relevant Service Information

Dassault has issued the service bulletins in the following table:

Table.—Service Bulletins
Dassault service bulletin— | Dated— | For model—
F2000EX-92 | December 22, 2005 | Falcon 2000EX airplanes.
F2000-332 | December 22, 2005 | Falcon 2000 airplanes.

Both service bulletins describe the following procedures for both airplane models, except as indicated:

• Coating nuts and rivets with epoxy resin if necessary.

• Doing a general visual inspection for damage of the feeder cables coming from the essential and A1 buses, and applicable corrective actions if necessary. The corrective actions include repairing any damaged feeder cable having a damaged conductor, and wrapping with Roundit sheath any damaged feeder cable that does not affect the conductor; as applicable.

• Re-routing the wiring on the cockpit protector, and bonding the applicable supports with epoxy resin (for all Model Falcon 2000 airplanes and for certain Model Falcon 2000EX airplanes).

• Installing a protective plate on the feeder cables.

For certain airplanes, Dassault Service Bulletin F2000EX-92 also describes procedures for drilling holes in the cockpit protector located between the headline and the skin, and clamping the feeder cables coming from the essential, A1, and A2 buses.

Accomplishing the actions specified in the service information is intended to adequately address the unsafe condition. The EASA mandated the service bulletins and issued emergency airworthiness directive 2006-0003, dated January 5, 2006, to ensure the continued airworthiness of these airplanes in the European Union.

FAA's Determination and Requirements of This AD

These airplane models are manufactured in France and are type certificated for operation in the United States under the provisions of § 21.29 of the Federal Aviation Regulations (14 CFR 21.29) and the applicable bilateral airworthiness agreement. Pursuant to FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are issuing this AD to prevent chafing between the third crew member's oxygen mask box and feeder cables routed in the area, which could generate smoke or fire in the cockpit that could be fanned by oxygen leakage from the oxygen mask box. This AD requires accomplishing the actions specified in the service information described previously.

Difference Between the EASA's Emergency Airworthiness Directive and This AD

The applicability of the EASA's emergency airworthiness directive 2006-0003 excludes airplanes on which Dassault Modification M2738 (reference Dassault Service Bulletins F2000EX-92 and F2000-332) was done. However, we have not excluded those airplanes in the applicability of this AD; rather, this AD includes a requirement to accomplish the actions specified in those service bulletins, as applicable. This requirement will ensure that the actions specified in the applicable service bulletin and required by this AD are done on all affected airplanes. Operators must continue to operate the airplane in the configuration required by this AD unless an alternative method of compliance is approved. This difference has been coordinated with the EASA.

FAA's Determination of the Effective Date

An unsafe condition exists that requires the immediate adoption of this AD; therefore, providing notice and opportunity for public comment before the AD is issued, is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-23716; Directorate Identifier 2006-NM-008-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-03-02 Dassault Aviation: Amendment 39-14466. Docket No. FAA-2006-23716; Directorate Identifier 2006-NM-008-AD.

Effective Date

(a) This AD becomes effective February 16, 2006.

Affected ADs

(b) None.

Applicability

(c) This AD applies to the Dassault airplanes in Table 1 of this AD, certificated in any category; equipped with a third crew member passenger-type oxygen mask on the cockpit ceiling; excluding those airplanes on which Dassault Modification M2739 has been done in production.

Table 1.—Applicability
Model | Serial numbers
(1) Falcon 2000 airplanes | 1 through 226 inclusive.
(2) Falcon 2000EX airplanes | 1 through 64 inclusive

Unsafe Condition

(d) This AD results from a drawing review and further associated inspections that highlighted a potential chafing risk between the third crew member's oxygen mask box and feeder cables routed in the area. We are issuing this AD to prevent chafing between the subject oxygen mask box and the adjacent feeder cables, which could generate smoke or fire in the cockpit that could be fanned by oxygen leakage from the oxygen mask box.

Compliance

(e) You are responsible for having the actions required by this AD performed within the compliance times specified, unless the actions have already been done.

Service Bulletins

(f) The term “service bulletin,” as used in this AD, means the Accomplishment Instructions of the applicable service bulletin in Table 2 of this AD.

Table 2.— Service Bulletins
Dassault service bulletin— | Dated— | For model—
(1) F2000-332 | December 22, 2005 | Falcon 2000 airplanes.
(2) F2000EX-92 | December 22, 2005 | Falcon 2000EX airplanes.

Apply Epoxy Resin, Inspect for Damaged Feeder Cables, Re-Route Wiring, and Install of a Protective Plate

(g) Within 30 days or 30 flight cycles after the effective date of this AD, whichever occurs first, do the applicable actions in Table 3 of this AD in accordance with the service bulletin.

Table 3.—Required Actions
For— | Required actions
(1) All airplanes | Coat nuts and rivets with epoxy resin.
(2) All airplanes | Do a general visual inspection for damage of the feeder cables coming from the essential and A1 buses.
(3) Model Falcon 2000EX airplanes, serial number 6 and 28 through 64 inclusive | Drill holes in the cockpit protector located between the headline and the skin, and clamp the feeder cables coming from the essential, A1, and A2 buses.
(4) All Model Falcon 2000 airplanes and for Model Falcon 2000EX airplanes, serial numbers 1 through 5 inclusive and 7 through 27 inclusive | Re-route the wiring on the cockpit protector, and bond the applicable supports with epoxy resin.
(5) All airplanes | Install a protective plate on the feeder cables.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Actions

(h) If any damaged feeder cable is detected during the inspection required by paragraph (g)(2) of this AD, before further flight, do the applicable corrective actions in accordance with the service bulletin.

No Reporting

(i) Although the service bulletins referenced in this AD specifies to submit certain information to the manufacturer, this AD does not include that requirement.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) The European Aviation Safety Agency's emergency airworthiness directive 2006-0003, dated January 5, 2006, also addresses the subject of this AD.

Material Incorporated by Reference

(l) You must use the applicable service bulletin in Table 4 of this AD to perform the actions that are required by this AD, unless the AD specifies otherwise. The Director of the Federal Register approved the incorporation by reference of these documents in accordance with 5 U.S.C. 552(a) and 1 CFR part 51. Contact Dassault Falcon Jet, P.O. Box 2000, South Hackensack, New Jersey 07606, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 4.—Material Incorporated by Reference
Dassault service bulletin— | Dated—
(1) F2000-332 | December 22, 2005.
(2) F2000EX-92 | December 22, 2005.

Issued in Renton, Washington, on January 23, 2006.
Ali Bahrami,
Manager, Transport Airplane Directorate, Aircraft Certification Service.

[FR Doc. 06-824 Filed 1-31-06; 8:45 am]

BILLING CODE 4910-13-P